DEPARTMENT OF STATE

[Public Notice 6532]

Meeting of the Joint Forum on Environmental Technical Cooperation (“Joint Forum”) Pursuant to the United States—Jordan Joint Statement on Environmental Technical Cooperation

ACTION: Notice and request for comments.

SUMMARY: The Department of State is providing notice that, as set forth in paragraph three of the United States-Jordan Joint Statement on Environmental Technical Cooperation (“Joint Statement”), the U.S. and Jordan will hold a meeting of the Joint Forum on Environmental and Technical Cooperation (“Joint Forum”) in Amman, Jordan, on March 3, 2009, at the Sheraton Amman Al Nabil Hotel & Towers, 5th Circle, P.O. Box 840064, Amman 11184. See below under SUPPLEMENTARY INFORMATION for additional details on the purpose of the meeting. During the meeting, the U.S. and Jordan will present information on cooperative environmental work they are undertaking pursuant to the Joint Statement, and will formally review and adopt a new 2008-2011 Work Program for implementing the Joint Statement. The entire meeting will be open to the public. The meeting will be conducted in English, and there will be no Arabic translation.

The Department of State invites agencies, organizations, and members of the public to submit written comments or suggestions regarding agenda items. The Department of State also invites comment on the draft 2008-2011 Work Program. In preparing such comments or suggestions, we encourage submitters to refer to: (1) The U.S.-Jordan Joint Statement on Environmental Technical Cooperation, (2) the draft 2008-2011 Work Program Pursuant to the U.S.-Jordan Joint Statement on Environmental Cooperation, (3) the Plan of Action: U.S.-Jordan Joint Forum on Environmental Technical Cooperation, (4) Article 5 (Environment) of the Agreement Between the U.S. and the Hashemite Kingdom of Jordan on the Establishment of a Free Trade Area and (5) the Environmental Review of the FTA, which are all available at: http://www.state.gov/g/oes/env/trade/.

DATES: To be assured of timely consideration, all written comments or suggestions are requested no later than February 26, 2009.

ADDRESSES: Written comments or suggestions should be e-mailed (dod43075@state.gov) or faxed ((202) 647-5947) to Dao Do, U.S. Department of State, Bureau of Oceans, Environment, and Science, Office of Environmental Policy, with the subject line “U.S.-Jordan Joint Forum Meeting.”

FOR FURTHER INFORMATION, CONTACT: Dao Do, telephone (202) 647-6777.

SUPPLEMENTARY INFORMATION: In Paragraph 3 of the U.S.-Jordan Joint Statement on Environmental Technical Cooperation, the United States and Jordan establish a Joint Forum on Environmental and Technical Cooperation that will meet regularly. The mandate of the Joint Forum is to advance environmental protection in Jordan by developing environmental technical cooperation initiatives, which take into account environmental priorities, and which are agreed to by the two Governments. In paragraph 4, the Countries identify an initial focus of technical cooperation on Jordanian environmental quality issues and the development and effective implementation of Jordanian environmental laws, as defined in Articles 5.4 and 18.2(a) of the FTA.

The first Plan of Action focused on implementing a strategic vision for the Ministry of Environment in Jordan, established in 2002, to promote sustainable economic growth and development. The plan outlined activities to, among other things, strengthen the Jordanian Ministry of Environment's capacity for setting, implementing, and ensuring compliance with environmental standards; harness market forces to protect the environment while bringing economic benefits; undertake industrial wastewater treatment and hazardous waste management for a target region; seek out economic benefits of ecotourism; and promote development of a regional network of environmental lawmakers and enforcement officials.

The new Work Program for 2008-2011 identifies long-term goals to achieve (1) Compliance with obligations in Article 5 (Environment) of the Agreement Between the U.S. and the Hashemite Kingdom of Jordan on the Establishment of a Free Trade Area; (2) Improved protection and conservation of the environment, including natural resources; (3) Transparency and meaningful public participation in environmental decision-making; and (4) A culture of environmental protection and compliance with environmental laws through, among other things, the promotion of economic opportunities; voluntary measures to enhance environmental performance; and job creation. The new Work Program specifies cooperative activities in four main priority areas which reflect the “Selected Environmental Technical Cooperation Programs” listed in the Annex to the October 24, 2000 Joint Statement. These areas include institutional and policy strengthening; biodiversity conservation and improved management of protected areas; improved private sector environmental performance; and environmental education, transparency, and public participation in environmental decision-making and enforcement.

At the Joint Forum, U.S. and Jordanian officials will present information on cooperative environmental work they are undertaking pursuant to the Joint Statement, and will formally review and adopt a new 2008-2011 Work Program for implementing the Joint Statement. The entire meeting will be open to the public. The meeting will be conducted in English, and there will be no Arabic translation.

Please refer to the State Department Web site at http://www.state.gov/g/oes/env/.

Dated: February 12, 2009.
Daniel T. Fantozzi,
Director, Office of Environmental Policy, Department of State.

[FR Doc. E9-4041 Filed 2-24-09; 8:45 am]

BILLING CODE 4710-19-P